Proclamation 9481 of August 31, 2016

National Preparedness Month, 2016

By the President of the United States of America

A Proclamation

Americans have been tested by trial and tragedy since our earliest days—but year after year, no matter the hardship, we pull through and forge ahead. Fifteen years after the attacks of September 11, we reflect on our strength as a Nation when anything threatens us. Today, as the residents of Louisiana mourn the loss of loved ones and face tremendous damage caused by historic floods, we are reminded of what Americans do in times like these—we see the power of love and community among neighbors who step up to help in extraordinarily difficult circumstances. Preparing ourselves to meet the unknown challenges of tomorrow is a duty we all share, and when confronted with crisis or calamity, we need to have done everything possible to prepare. During National Preparedness Month, we emphasize the importance of readying ourselves and our communities to be resilient in the face of any emergency we may encounter.

Although my Administration continues doing everything we can to keep the American people safe, it is each citizen's responsibility to be as prepared as possible for emergencies. Whether in the form of natural disasters like hurricanes and earthquakes, or unspeakable acts of evil like terrorism, danger can arise at unexpected times and places. Fortunately, there are many things that individuals, families, and communities can do to improve their readiness. I encourage all Americans to take proactive steps to prepare for any situation that may occur—including signing up for local alerts, checking insurance coverage, documenting valuables, creating a plan for emergency communication and evacuation, and having a fully stocked disaster supply kit on hand. And I encourage those in the business community to prepare their employees, develop a business continuity plan, and engage in community-level planning to help ensure our communities and private sector remain strong when faced with an emergency. For information on how to better prepare for emergencies that are common in your area, or to learn about resources that may be available for increasing preparedness, visit www.Ready.gov or www.Listo.gov.

In the face of unpredictable threats and hazards, we are committed to improving access to information and raising awareness of the importance of precautionary measures. Leaders across our country should take the time to review the 2016 National Preparedness Report and find ways to address the vulnerabilities it highlights. All Americans can play a role in fulfilling our National Preparedness Goal by addressing the risks that affect them and participating in preparedness activities across our Nation.

We continue to collaborate with State, local, and tribal partners, along with those in the public and private sectors, to ensure that communities in crisis do not have to face these dangers alone. In addition to coordinating relief efforts and providing rapid response, we have focused on supporting the needs of survivors, investing in affected neighborhoods, and helping them rebuild their communities to be better, stronger, and more resilient. Federal agencies are also working to share resources with the public, promote the tools and technologies that could help during disasters, and offer preparation strategies. We launched America's PrepareAthon! to bring communities together and help them plan for emergencies, and on September 30, we encourage a national day of action to spur preparedness efforts from coast to coast.

Disasters have become more frequent and severe as our climate changes; both urban and rural areas are already feeling the devastating consequences, including severe droughts and higher sea levels, intense storms and wildfires, and more powerful hurricanes and heat waves. Climate change poses an imminent and lasting threat to our safety and national security, and it is critical that we invest in our infrastructure and integrate the preparedness efforts of our communities to improve our ability to respond to and recover from the effects of our changing climate and extreme weather events.

This month, we pay tribute to the courageous individuals who rush to the scene of disaster for their dedication to our safety and security, no matter the price. Let us recognize that each of us can do our part to prepare for emergencies, help those affected by disasters, and ensure all our people have the necessary resources and knowledge to protect themselves. Together, we will remain strong and resilient no matter what befalls us.

NOW, THEREFORE, I, BARACK OBAMA, President of the United States of America, by virtue of the authority vested in me by the Constitution and the laws of the United States, do hereby proclaim September 2016 as National Preparedness Month. I encourage all Americans to recognize the importance of preparedness and work together to enhance our resilience and readiness.

IN WITNESS WHEREOF, I have hereunto set my hand this thirty-first day of August, in the year of our Lord two thousand sixteen, and of the Independence of the United States of America the two hundred and forty-first.

[FR Doc. 2016-21754

Filed 9-7-16; 8:45 am]

Billing code 3295-F6-P